DEPARTMENT OF TRANSPORTATION

Federal Aviation Administration

Notice of Opportunity for Public Comment on Surplus Property Release at Michael J Smith Field, Beaufort, NC

AGENCY: Federal Aviation Administration (FAA), DOT.

ACTION: Notice.

SUMMARY: Under the provisions of Title 49, U.S.C. Section 47153(c), notice is being given that the FAA is considering a request from the Beaufort-Morehead City Airport Authority to waive the requirement that approximately 7.5 acres of airport property, located at the Michael J Smith Field, be used for aeronautical purposes.

DATES: Comments must be received on or before June 20, 2012.

ADDRESSES: Comments on this notice may be mailed or delivered in triplicate to the FAA at the following address: Atlanta Airports District Office, Attn: Rusty Nealis, Program Manager, 1701 Columbia Ave., Suite 2-260, Atlanta, GA 30337-2747.

In addition, one copy of any comments submitted to the FAA must be mailed or delivered to Ken Lohr, Chairman, Beaufort-Morehead City Airport Authority at the following address: Beaufort-Morehead City Airport Authority, P.O. Box 875, Beaufort, NC 28516-0875.

FOR FURTHER INFORMATION CONTACT: Rusty Nealis, Program Manager, Atlanta Airports District Office, 1701 Columbia Ave., Campus Building, Suite 2-260, Atlanta, GA 30337-2747, (404) 305-7142. The application may be reviewed in person at this same location.

SUPPLEMENTARY INFORMATION: The FAA is reviewing a request by the Beaufort-Morehead City Airport Authority to release approximately 7.5 acres of airport property at the Michael J Smith Field. The property consists of one parcel located on the north side of West Beaufort Road. The proposed use of this land is for the realignment of US 70 and is compatible with airport operations. Any person may inspect the request in person at the FAA office listed above under FOR FURTHER INFORMATION CONTACT. In addition, any person may, upon request, inspect the request, notice and other documents germane to the request in person at the Michael J Smith Airport.

Issued in Atlanta, Georgia on May 8, 2012.
Larry F. Clark,
Acting Manager, Atlanta Airports District Office, Southern Region.

[FR Doc. 2012-12053 Filed 5-18-12; 8:45 am]

BILLING CODE 4910-13-M